DEPARTMENT OF AGRICULTURE

Commodity Credit Corporation

2002-Crop Sugar Marketing Allotments and Cane Sugar Allotment Hearing

AGENCY: Commodity Credit Corporation, USDA.

ACTION: Notice of 2002-crop sugar marketing allotments and public hearing.

SUMMARY: The Commodity Credit Corporation (CCC) is issuing this notice to advise the public that CCC has established the overall allotment quantity for sugar for the 2002 crop year and will hold a public hearing regarding the 2002-crop cane State sugar marketing allotments and the allocation of cane State sugar marketing allotments to processors, as requested by affected sugar processors and growers. CCC will also use this forum to entertain comments on the overall structure and implementation of the sugar allotment program.

DATES: The public hearing will be held September 4, 2002, in the Jefferson Auditorium of USDA South Building, 1400 Independence Ave, SW., Washington, DC. The hearing will start at 10 a.m. All times noted are Eastern Standard Time (EST).

ADDRESSES: Thomas Bickerton, Economic Policy and Analysis Staff, Farm Service Agency, U.S. Department of Agriculture, 1400 Independence Avenue, SW., STOP 0516, Washington, DC 20250-0516; telephone (202) 720-6733; FAX (202) 690-1480; e-mail: Thomas.Bickerton2@usda.gov.

FOR FURTHER INFORMATION CONTACT: Thomas Bickerton at (202) 720-6733.

SUPPLEMENTARY INFORMATION: The U.S. Department of Agriculture's Commodity Credit Corporation (CCC) has established the overall allotment quantity for sugar for the 2002 crop year as required by the Farm Security and Rural Investment Act of 2002. USDA earlier had announced that domestic marketing allotments would be in effect for the upcoming marketing year and this notice establishes the quantity involved.

On August 1, USDA made preliminary estimates of 2002-crop consumption, reasonable carryover stocks, carry-in stocks, production and imports in accordance with provisions of the new Farm Bill. These estimates were reevaluated following the release of more current market information in the August 12, 2002 USDA World Agricultural Supply and Demand Estimates (WASDE) report.

Based on the allotment formula guidelines in the farm bill, USDA has calculated the overall allotment quantity for sugar based on the estimated domestic deliveries for food use and beginning sugar stocks from the August 12 WASDE report.

The farm bill further requires that USDA establish the allotments so that no sugar is forfeited under the program and that the overall program can be operated at no-net cost to taxpayers. Market uncertainties such as changes in consumption and imports and 2001-crop sugar carryover not subject to allotments, also factored into the estimate of reasonable ending sugar stocks.

The overall allotment quantity determined in this manner is 7.700 million tons, short tons, raw value (STRV), for the 2002 crop year (Fiscal Year 2003). The resulting sector allocations are 4.185 million STRV for beet sugar and 3.515 million STRV for cane sugar.

USDA will closely monitor consumption, beginning stocks and reasonable ending stocks and all other program variables on an ongoing basis. Appropriate adjustments can be made at any time to the overall allotment quantity, as required, both to avoid forfeitures and to ensure an adequate sugar supply for the domestic market in FY 2003.

Public Hearing

USDA will hold a public hearing as required by the new statute regarding the 2002-crop cane State sugar marketing allotments and the allocation of cane State sugar marketing allotments to processors, as requested by affected sugar processors and growers. CCC will also use this forum to entertain comments on the overall structure and implementation of the sugar allotment program. Attendance is open to sugarcane growers, sugarcane processors, cane sugar refiners, sugar beet growers, sugar beet processors, sugar users, and all other interested parties.

The hearing will be held on September 4, 2002 from 10 a.m. Eastern Standard Time (EST) to 4 p.m., in the Jefferson Auditorium of USDA South Building, 1400 Independence Ave., SW., Washington, DC.

Anyone wishing to make an oral statement may do so, time permitting. Comments will be limited to 5 minutes. Those wishing to make an oral statement should submit a request to Thomas Bickerton (address follows). A signup sheet for statements will also be available one hour before the hearing begins. Oral statements will be made in the order the request was received. Also, written statements may be submitted in lieu of an oral statement and must be received by the close of business on September 4, 2002. These should be sent to Thomas Bickerton, Economic Policy and Analysis Staff, Farm Service Agency, U.S. Department of Agriculture, 1400 Independence Ave., SW., STOP 0516, Washington, DC 20250-0516; Telephone: (202) 720-3008; Fax: (202) 690-1480; e-mail: Thomas.Bickerton2@usda.gov.

Persons with disabilities who require special accommodations to attend or participate in the meetings should contact Thomas Bickerton.

Signed in Washington, DC, on August 27, 2002.
Teresa C. Lasseter,
Acting Executive Vice President, Commodity Credit Corporation.

[FR Doc. 02-22438 Filed 8-29-02; 9:04 am]

BILLING CODE 3410-05-P